DEPARTMENT OF ENERGY

[OE Docket No. PP-230-4]

Notice of Extension of Comment Period; International Transmission Company, d/b/a ITC Transmission

AGENCY: Office of Electricity Delivery and Energy Reliability, DOE.

ACTION: Notice of Extension of Comment Period.

SUMMARY: International Transmission Company, d/b/a ITCTransmission (ITC), filed a request to further extend the comment period on its supplemental filing of operational documents in an ongoing Presidential permit proceeding regarding the ITC application to amend Presidential Permit No. PP-230-3.

DATES: Comments must be submitted and received by DOE on or before November 4, 2011.

ADDRESSES: Comments should be addressed to: Christopher Lawrence, Office of Electricity Delivery and Energy Reliability, Mail Code: OE-20, U.S. Department of Energy, 1000 Independence Avenue, SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by e-mail to Christopher.Lawrence@hq.doe.gov.

SUPPLEMENTARY INFORMATION: On January 5, 2009, ITC applied to the DOE to amend Presidential Permit No. PP-230-3 by authorizing ITC to replace a failed 675-MVA transformer with two 700-MVA phase-shifting transformers connected in series at ITC's Bunce Creek Station in Marysville, Michigan.

On August 9, 2011, DOE received Supplemental Reply Comments from ITC, which completed the ITC response to earlier comments filed in the proceeding by the Midwest Independent Transmission System Operator (MISO), Inc. and the Independent Electricity System Operator of Ontario. According to ITC, the supplemental filing provided the operational agreements required to complete ITC's application in the amendment proceeding, including a letter of agreement between ITC and MISO assigning functional control of the subject facilities at the Bunce Creek Station to MISO.

DOE published a notice in the Federal Register on August 18, 2011 (76 FR 52945) inviting comments from prior participants in the proceeding and other interested persons on the ITC supplemental filing until September 23, 2001. Specifically, DOE was interested in obtaining the views of other affected utilities and system operators on the sufficiency of the operating principles provided by ITC.

In response to a motion from ITC filed on September 15, 2011, DOE extended the comment period on the supplemental filing through the publication of a notice in the Federal Register on September 27, 2011 (76 FR 59668). The current comment period is scheduled to expire on October 14, 2011.

On October 11, 2011 ITC filed a motion requesting an extension of the comment period for an additional week in order to allow more time for the parties in the case to finalize ongoing settlement discussions. In the interest of ensuring that there is sufficient time for the parties to be able to conclude the settlement and provide any additional comments that may be warranted, DOE has decided to extend the public comment period until November 4, 2011.

Procedural Matters: Any person desiring to be heard in response to this notice should file written comments with DOE. Five copies of such comments should be sent to the address provided above on or before the date listed above.

Additional copies of such petitions to intervene or protests also should be filed directly with: Stephen J. Videto, ITCTransmission, 27175 Energy Way, Novi, MI 48377 and John R. Staffier, Stuntz, Davis & Staffier, P.C., 555 Twelfth Street, NW., Suite 630, Washington, DC.

All of the documents filed in the OE Docket No. PP-230-4 proceeding may be viewed by going to the Pending Applications page at http://energy.gov/node/11845 on the DOE Web site and scrolling to the PP-230-4 section under Pending Presidential Permit Applications.

Issued in Washington, DC, on October 13, 2011.
Brian Mills,
Director, Permitting and Siting, Office of Electricity Delivery and Energy Reliability.

[FR Doc. 2011-27278 Filed 10-20-11; 8:45 am]

BILLING CODE 6450-01-P